ENVIRONMENTAL PROTECTION AGENCY

[FRL-8170-8]

National Environmental Justice Advisory Council; Notification of Public Meeting and Public Comment

AGENCY: Environmental Protection Agency.

ACTION: Notification of public meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come basis.

DATES: The NEJAC meeting will take place at the Washington Plaza Hotel, 10 Thomas Circle, NW., Washington, DC 20005. On-site registration for the NEJAC meeting will begin on Tuesday, June 20, 2006 at 11 a.m. The NEJAC will convene Tuesday, June 20, 2006, from 1 p.m. to 5 p.m. The NEJAC will reconvene on Wednesday, June 21, 2006, from 8:30 a.m. to 5 p.m., and Thursday, June 22, 2006, from 9 a.m. to 3 p.m. One public comment session relevant to the specific issues being considered by the NEJAC is scheduled for Tuesday, June 20, 2006, from 7 p.m. to 9 p.m. All times noted are Eastern Time. Members of the public who wish to participate in the public comment period are encouraged to pre-register by Wednesday, June 14, 2006.

FOR FURTHER INFORMATION CONTACT: Correspondence concerning the meeting should be sent to Ms. Victoria Robinson, NEJAC Program Manager, U.S. Environmental Protection Agency, at 1200 Pennsylvania Avenue, NW., (MC2201A), Washington, DC 20460; via e-mail at environmental-justice-epa@epa.gov; by telephone at (202) 564-6349; or by FAX at (202) 564-1624. Additional information about the meeting is available at the Internet Web site: http://www.epa.gov/compliance/environmentaljustice/nejac/meetings.html.

Pre-registration for all attendees is recommended. To register online, visit the Web site above. Requests for registration forms should be sent to Ms. Julianne Pardi of ICF International at: 9300 Lee Highway, Fairfax, Virginia 22031; Telephone: (703) 934-3873; E-mail: jpardi@icfi.com, or FAX: (703) 934-3270. Hearing-impaired individuals or non-English speaking attendees wishing to arrange for a sign language or foreign language interpreter, may make appropriate arrangements using these numbers also.

SUPPLEMENTARY INFORMATION: The Charter of the NEJAC states that the advisory committee shall provide independent advice to the Administrator on areas that may include, among other things, “advice on EPA's progress, quality and adequacy in planning, developing and implementing environmental justice strategies, projects and programs” relating to environment justice. In order to provide such independent advice, the Agency requests that the NEJAC convene a focused, issue-oriented public meeting in Washington, DC. To help prepare for this specific focused policy issue meeting the following background information is provided:

The meeting shall be used to receive comments on, discuss, and analyze what mechanisms will most effectively: (1) Ensure continuation of timely, relevant and cogent public policy advice on environmental justice issues/concerns; (2) enable impacted communities to continue to raise concerns to government agencies; (3) support continued partnership-building and problem-solving capacity among EPA's regulatory partners and other environmental justice stakeholders; and (4) promote opportunities for training and sharing lessons learned for all stakeholders involved in the environmental justice dialogue. The Agency, furthermore, requests that the NEJAC produce a comprehensive report on the differing views, interests, concerns, and perspectives expressed by the stakeholder participants on the focused policy issue, and provide advice and recommendations for the Agency's review and consideration.

In order to fulfill this charge, the NEJAC is being asked to discuss and provide recommendations regarding the following broad public policy questions:

• What venues and other mechanisms would be most effective for EPA to continue to obtain public policy advice on specific environmental justice issues/concerns?

• What mechanisms would be most effective for EPA to receive timely advice on specific environmental justice issues/concerns that require action or decision on short notice?

• What are the best mechanisms to continue to build a collaborative problem-solving capacity to address environmental justice issues/concerns among EPA's regulatory partners and other environmental justice stakeholders?

In addition, the NEJAC will deliberate on two draft reports: (1) the Gulf Coast Hurricanes Workgroup's draft advice and recommendations on the environmental justice issues related to natural disasters such as Hurricanes Katrina and Rita, and (2) the Waste and Facility Siting Subcommittee's draft report, “Unintended Impacts of Redevelopment and Revitalization Efforts in Five Environmental Justice Communities.” Documents that are the subject of NEJAC reviews normally are available from the originating EPA office and are not available from the NEJAC.

The Gulf Coast Hurricanes Workgroup's draft advice and recommendations responds to the following question:

How can EPA effectively address the vulnerabilities of all communities to public health and environmental risks and harms, including minority and low-income communities, in EPA's response and rebuilding, and preparedness and prevention efforts, in the aftermath of natural disasters similar to Hurricanes Katrina and Rita, pursuant to the National Response Plan and applicable statutory authorities and their implementing regulations, as well as Executive Order 12898?

The Waste and Facility Siting Subcommittee's draft report provides draft advice and recommendations based upon lessons learned regarding unintended impacts of successful brownfields cleanup at redevelopment and revitalization projects in five minority, low-income, and/or tribal communities.

Public Comment: Individuals or groups making oral presentations during the public comment period will be limited to a total time of five minutes. Only one representative of a community, an organization, or a group will be allowed to speak. Any number of written comments can be submitted for the record. The suggested format for individuals making public comment should be as follows: Name of Speaker, Name of Organization/Community, Address/Telephone/E-mail, Description of Concern and its Relationship to the policy issue(s), and Recommendations or desired outcome. If you wish to submit written comments of any length, at least 50 copies should be received by Friday, June 14, 2006. Written comments received after that date will be provided to the NEJAC as logistics allow. All information should be sent to the address, e-mail, or fax number listed in the FOR FURTHER INFORMATION CONTACT section above.

Dated: May 10, 2006.
Charles Lee,
Designated Federal Officer, National Environmental Justice Advisory Council.

[FR Doc. E6-7410 Filed 5-15-06; 8:45 am]

BILLING CODE 6560-50-P